DEPARTMENT OF ENERGY

Federal Energy Regulatory Commission

Combined Notice of Filings #1

Take notice that the Commission received the following exempt wholesale generator filings:

Docket Numbers: EG21-262-000.

Applicants: Nexus Line, LLC.

Description: Notice of Self-Certification of Exempt Wholesale Generator status of Nexus Line, LLC.

Filed Date: 9/30/21.

Accession Number: 20210930-5079.

Comment Date: 5 p.m. ET 10/21/21.

Docket Numbers: EG21-263-000.

Applicants: Stanly Solar, LLC.

Description: Notice of Self-Certification of Exempt Wholesale Generator Status of Stanly Solar, LLC.

Filed Date: 9/30/21.

Accession Number: 20210930-5101.

Comment Date: 5 p.m. ET 10/21/21.

Take notice that the Commission received the following Complaints and Compliance filings in EL Dockets:

Docket Numbers: EL21-106-000.

Applicants: Western Farmers Electric Cooperative, Central Valley Electric Cooperative, Lea County Electric Cooperative, Roosevelt County Electric Cooperative, Farmers Electric Cooperative.

Description: Request For Extension of Partial Waiver of The Commission's PURPA Regulations.

Filed Date: 9/21/21.

Accession Number: 20210921-5139.

Comment Date: 5 p.m. ET 10/12/21.

Take notice that the Commission received the following electric rate filings:

Docket Numbers: ER20-1317-002.

Applicants: Arizona Public Service Company.

Description: Compliance filing: Supplement to Amended Compliance Filing in Compliance with Order No. 864 to be effective 1/27/2020.

Filed Date: 9/29/21.

Accession Number: 20210929-5150.

Comment Date: 5 p.m. ET 10/20/21.

Docket Numbers: ER21-955-002.

Applicants: California Independent System Operator Corporation.

Description: Compliance filing: 2021-09-30 Petition for Limited Tariff Waiver & Shortened Comment Period Request to be effective N/A.

Filed Date: 9/30/21.

Accession Number: 20210930-5094.

Comment Date: p.m. ET 10/12/21.

Docket Numbers: ER21-2611-001.

Applicants: Wisconsin Public Service Corporation.

Description: Tariff Amendment: Updated Revised LBAAOCA with WPL to be effective 10/4/2021.

Filed Date: 9/30/21.

Accession Number: 20210930-5141.

Comment Date: 5 p.m. ET 10/21/21.

Docket Numbers: ER21-2624-001.

Applicants: Puget Sound Energy, Inc.

Description: Tariff Amendment: Errata Filing Regarding Effective Date to be effective 8/1/2021.

Filed Date: 9/30/21.

Accession Number: 20210930-5110.

Comment Date: 5 p.m. ET 10/21/21.

Docket Numbers: ER21-2631-001.

Applicants: Wisconsin Power and Light Company.

Description: Tariff Amendment: Amendment to WPL Letter of Concurrence to be effective 10/4/2021.

Filed Date: 9/30/21.

Accession Number: 20210930-5006.

Comment Date: 5 p.m. ET 10/21/21.

Docket Numbers: ER21-2971-000.

Applicants: Northern Indiana Public Service Company LLC.

Description: § 205(d) Rate Filing: Update to Reactive Power Rate Schedule to be effective 10/1/2021.

Filed Date: 9/29/21.

Accession Number: 20210929-5137.

Comment Date: 5 p.m. ET 10/20/21.

Docket Numbers: ER21-2973-000.

Applicants: Arizona Public Service Company.

Description: Tariff Amendment: Rate Schedule No. 183—Notice of Cancellation to be effective 12/31/2021.

Filed Date: 9/29/21.

Accession Number: 20210929-5143.

Comment Date: 5 p.m. ET 10/20/21.

Docket Numbers: ER21-2974-000.

Applicants: Southwest Power Pool, Inc.

Description: § 205(d) Rate Filing: 3860 Deuel Harvest Wind Energy and WAPA Affected Systems FCA to be effective 11/29/2021.

Filed Date: 9/30/21.

Accession Number: 20210930-5007.

Comment Date: 5 p.m. ET 10/21/21.

Docket Numbers: ER21-2975-000.

Applicants: Continental Electric Cooperative Services, Inc.

Description: Notice of Cancellation of Market Based Rate Tariff of Continental Electric Cooperative Services, Inc.

Filed Date: 9/29/21.

Accession Number: 20210929-5166.

Comment Date: 5 p.m. ET 10/20/21.

Docket Numbers: ER21-2976-000.

Applicants: Evergy Kansas Central, Inc.

Description: § 205(d) Rate Filing: Revision, KEPCo Attach F-1, Cost-Based Full Requirements Agreement to be effective 1/1/2022.

Filed Date: 9/30/21.

Accession Number: 20210930-5083.

Comment Date: 5 p.m. ET 10/21/21.

Docket Numbers: ER21-2977-000.

Applicants: Upper Missouri G. & T. Electric Cooperative, Inc.

Description: § 205(d) Rate Filing: Revised FERC Electric Tariff Vol. No. 1 to be effective 10/1/2021.

Filed Date: 9/30/21.

Accession Number: 20210930-5084.

Comment Date: 5 p.m. ET 10/21/21.

Docket Numbers: ER21-2978-000.

Applicants: American Transmission Systems, Incorporated, PJM Interconnection, L.L.C.

Description: § 205(d) Rate Filing: American Transmission Systems, Incorporated submits tariff filing per 35.13(a)(2)(iii: ATSI Submits Revised IA No. 3993 to be effective 11/30/2021.

Filed Date: 9/30/21.

Accession Number: 20210930-5093.

Comment Date: 5 p.m. ET 10/21/21.

Docket Numbers: ER21-2979-000.

Applicants: PJM Interconnection, L.L.C.

Description: § 205(d) Rate Filing: Original ISA, Service Agreement No. 6188; Queue Nos. AD2-172/AE2-035 to be effective 9/1/2021.

Filed Date: 9/30/21.

Accession Number: 20210930-5111.

Comment Date: 5 p.m. ET 10/21/21.

Docket Numbers: ER21-2980-000.

Applicants: Pacific Gas and Electric Company.

Description: § 205(d) Rate Filing: Balancing Accounts Update 2022 (TRBAA, RSBAA, ECRBAA) to be effective 1/1/2022.

Filed Date: 9/30/21.

Accession Number: 20210930-5122.

Comment Date: 5 p.m. ET 10/21/21.

Docket Numbers: ER21-2981-000.

Applicants: American Electric Power Service Corporation, Ohio Power Company, PJM Interconnection, L.L.C.

Description: § 205(d) Rate Filing: American Electric Power Service Corporation submits tariff filing per 35.13(a)(2)(iii: AEP submits one FA re: ILDSA SA No. 1574 to be effective 11/30/2021.

Filed Date: 9/30/21.

Accession Number: 20210930-5129.

Comment Date: 5 p.m. ET 10/21/21.

Docket Numbers: ER21-2982-000.

Applicants: Pacific Gas and Electric Company.

Description: Tariff Amendment: Termination of PWRPA Service Agreement Poundstone and Wilkins Slough (SA 30) to be effective 11/30/2021.

Filed Date: 9/30/21.

Accession Number: 20210930-5150.

Comment Date: 5 p.m. ET 10/21/21.

Docket Numbers: ER21-2983-000.

Applicants: Duke Energy Ohio, Inc.

Description: § 205(d) Rate Filing: DEO—CZ Solar IA Rate Schedule 276 to be effective 11/30/2021.

Filed Date: 9/30/21.

Accession Number: 20210930-5164.

Comment Date: 5 p.m. ET 10/21/21.

Docket Numbers: ER21-2984-000.

Applicants: Duke Energy Ohio, Inc.

Description: § 205(d) Rate Filing: DEO—CZ Solar Rate Schedule No. 277 IA to be effective 11/30/2021.

Filed Date: 9/30/21.

Accession Number: 20210930-5166.

Comment Date: 5 p.m. ET 10/21/21.

Docket Numbers: ER21-2985-000.

Applicants: New England Power Pool Participants Committee.

Description: § 205(d) Rate Filing: October 2021 Membership Filing to be effective 10/1/2021.

Filed Date: 9/30/21.

Accession Number: 20210930-5168.

Comment Date: 5 p.m. ET 10/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2021.
Debbie-Anne A. Reese,
Deputy Secretary.

[FR Doc. 2021-21829 Filed 10-5-21; 8:45 am]

BILLING CODE 6717-01-P